DEPARTMENT OF AGRICULTURE

Agricultural Marketing Service

[No. FV-06-18]

Notice of Funds Availability (NOFA) Inviting Applications for the Specialty Crop Block Grant Program (SCBGP)

AGENCY: Agricultural Marketing Service, USDA.

ACTION: Notice.

SUMMARY: The Agricultural Marketing Service (AMS) announces the availability of approximately $7 million in block grant funds to enhance the competitiveness of specialty crops. State departments of agriculture interested in obtaining grant program funds are invited to submit applications to USDA. State departments of agriculture, meaning agencies, commissions, or departments of a State government responsible for agriculture within the 50 States, the District of Columbia, and the Commonwealth of Puerto Rico, are eligible to apply. State departments of agriculture are encouraged to involve industry groups, academia, and community-based organizations in the development of applications and the administration of projects.

DATES: Applications must be postmarked not later than October 11, 2007.

ADDRESSES: Applications may be sent to: SCBGP, Agricultural Marketing Service (AMS), U.S. Department of Agriculture, 1400 Independence Avenue, SW., Stop 0235, Room 2077 South Building, Washington, DC 20250-0235.

FOR FURTHER INFORMATION CONTACT: Trista Etzig, (202) 690-4942, or Margaret Irby, (202) 720-3209, e-mail: Scblockgrants@usda.gov or your State department of agriculture listed on the SCBGP Web site at http://www.ams.usda.gov/fv/.

SUPPLEMENTARY INFORMATION: SCBGP is authorized under section 101 of the Specialty Crops Competitiveness Act of 2004 (7 U.S.C. 1621 note) and is implemented under 7 CFR part 1290 [Docket No. FV06-1290-1 FR]. The SCBGP assists State departments of agriculture in enhancing the competitiveness of U.S. specialty crops. Specialty crops are defined as fruits and vegetables, dried fruit, tree nuts, and nursery crops (including floriculture). Examples of enhancing the competitiveness of specialty crops include, but are not limited to: Research, promotion, marketing, nutrition, trade enhancement, food safety, food security, plant health programs, education, “buy local” programs, increased consumption, increased innovation, improved efficiency and reduced costs of distribution systems, environmental concerns and conservation, product development, and developing cooperatives.

Each interested State department of agriculture is to submit an application anytime before October 11, 2007 to the USDA contact noted in the FOR FURTHER INFORMATION CONTACT section. AMS will process the application after the Specialty Crop Block Grant Program, 7 CFR part 1290, becomes effective on October 11, 2006. States that do not apply for or do not request all available funding during the specified grant application period will forfeit all or that portion of available funding not requested for that application year. AMS will work with State departments of agriculture and provide assistance as necessary.

Additional details about the SCBGP application process for all applicants are available at the SCBGP Web site: http://www.ams.usda.gov/fv/.

To be eligible for a grant, each State department of agriculture's application shall be clear and succinct and include the following documentation satisfactory to AMS.

(a) Completed applications must include an SF-424 “Application for Federal Assistance”.

(b) Completed applications must also include one State plan to show how grant funds will be utilized to enhance the competitiveness of specialty crops. SCBGP grant funds will be awarded for projects of up to 3 years duration. The state plan shall include the following:

(1) Cover page. Include the lead agency for administering the plan and an abstract of 200 words or less for each proposed project.

(2) Project purpose. Clearly state the specific issue, problem, interest, or need to be addressed. Explain why each project is important and timely.

(3) Potential Impact. Discuss the number of people or operations affected, the intended beneficiaries of each project, and/or potential economic impact if such data are available and relevant to the project(s).

(4) Financial Feasibility. For each project, provide budget estimates for the total project cost. Indicate what percentage of the budget covers administrative costs. Administrative costs should not exceed 10 percent of any proposed budget. Provide a justification if administrative costs are higher than 10 percent.

(5) Expected Measurable Outcomes. Describe at least two discrete, quantifiable, and measurable outcomes that directly and meaningfully support each project's purpose. The outcome measures must define an event or condition that is external to the project and that is of direct importance to the intended beneficiaries and/or the public.

(6) Goal(s). Describe the overall goal(s) in one or two sentences for each project.

(7) Work Plan. Explain briefly how each goal and measurable outcome will be accomplished for each project. Be clear about who will do the work. Include appropriate time lines. Expected measurable outcomes may be long term that exceed the grant period. If so, provide a timeframe when long term outcome measure will be achieved.

(8) Project Oversight. Describe the oversight practices that provide sufficient knowledge of grant activities to ensure proper and efficient administration.

(9) Project Commitment. Describe how all grant partners commit to and work toward the goals and outcome measures of the proposed project(s).

(10) Multi-state Projects. If a project is a multi-state project, describe how the States are going to collaborate effectively with related projects. Each state participating in the project should submit the project in their State plan indicating which State is taking the coordinating role and the percent of the budget covered by each State.

Each State department of agriculture that submits an application that is reviewed and approved by AMS is to receive $100,000 to enhance the competitiveness of specialty crops. In addition, AMS will allocate the remainder of the grant funds based on the proportion of the value of specialty crop production in the state in relation to the national value of specialty crop production using the latest available (2005 National Agricultural Statistics Service (NASS) cash receipt data for the 50 States and the District of Columbia and 2002 Census of Agriculture data for the Commonwealth of Puerto Rico) specialty crop production data in all states whose applications are accepted.

The amount of the base grant plus value of production available to each State department of agriculture shall be:

(1) Alabama $108,926.78

(2) Alaska $100,520.67

(3) Arizona $133,290.44

(4) Arkansas $102,675.16

(5) California $652,477.92

(6) Colorado $116,139.35

(7) Connecticut $107,934.62

(8) Delaware $102,403.75

(9) District of Columbia $100,000.00

(10) Florida $253,750.10

(11) Georgia $129,864.25

(12) Hawaii $109,201.37

(13) Idaho $121,388.06

(14) Illinois $111,450.21

(15) Indiana $109,567.29

(16) Iowa $103,249.43

(17) Kansas $102,197.15

(18) Kentucky $102,827.56

(19) Louisiana $104,950.42

(20) Maine $105,806.75

(21) Maryland $111,602.37

(22) Massachusetts $107,596.35

(23) Michigan $136,342.33

(24) Minnesota $113,274.97

(25) Mississippi $103,626.70

(26) Missouri $104,289.46

(27) Montana $102,726.15

(28) Nebraska $104,133.83

(29) Nevada $101,478.01

(30) New Hampshire $102,244.91

(31) New Jersey $117,036.97

(32) New Mexico $108,507.39

(33) New York $129,212.32

(34) North Carolina $136,155.66

(35) North Dakota $109,135.59

(36) Ohio $122,689.29

(37) Oklahoma $107,188.11

(38) Oregon $148,320.35

(39) Pennsylvania $128,893.21

(40) Puerto Rico $106,053.13

(41) Rhode Island $101,417.97

(42) South Carolina $110,424.99

(43) South Dakota $100,850.02

(44) Tennessee $111,629.63

(45) Texas $156,488.66

(46) Utah $103,135.47

(47) Vermont $101,397.90

(48) Virginia $111,797.84

(49) Washington $182,441.82

(50) West Virginia $100,286.87

(51) Wisconsin $120,305.36

(52) Wyoming $100,695.09

Applicants submitting hard copy applications should submit one unstapled original and one unstapled copy of the application package. The SF-424 must be signed (with an original signature) by an official who has authority to apply for Federal assistance. Hard copy applications should be sent only via express mail to AMS at the address noted at the beginning of this notice because USPS mail sent to Washington, DC headquarters is still being sanitized, resulting in possible delays, loss, and physical damage to enclosures. AMS will send an e-mail confirmation when applications arrive at the AMS office.

Applicants who submit hard copy applications are also encouraged to submit electronic versions of their application directly to AMS via e-mail addressed to scblockgrants@usda.gov in one of the following formats: Word (*.doc); or Adobe Acrobat (*.pdf). Alternatively, a standard 3.5″ HD diskette or a CD may be enclosed with the hard copy application.

Applicants also have the option of submitting SCBGP applications electronically through the central Federal grants Web site, http://www.grants.gov instead of mailing hard copy documents. Applicants considering the electronic application option are strongly urged to familiarize themselves with the Federal grants Web site and begin the application process well before the application deadline.

SCBGP is listed in the “Catalog of Federal Domestic Assistance” under number 10.169 and subject agencies must adhere to Title VI of the Civil Rights Act of 1964, which bars discrimination in all federally assisted programs.

Authority: 7 U.S.C. 1621 note.

Dated: September 19, 2006.
Lloyd C. Day,
Administrator, Agricultural Marketing Service.

[FR Doc. 06-8213 Filed 9-25-06; 8:45 am]

BILLING CODE 3410-02-P